DEPARTMENT OF COMMERCE

International Trade Administration

[A-570-879, A-580-850]

Postponement of Preliminary Determinations of Antidumping Duty Investigations: Polyvinyl Alcohol from the People's Republic of China and the Republic of Korea

AGENCY: Import Administration, International Trade Administration, Department of Commerce.

SUMMARY: SUMMARY: The Department of Commerce is postponing the preliminary determinations in the antidumping duty investigations of polyvinyl alcohol from the People's Republic of China and the Republic of Korea from February 12, 2003, until no later than March 14, 2003. These postponements are made pursuant to section 733(c)(1)(A) of the Tariff Act of 1930, as amended.

EFFECTIVE DATE: January 30, 2003.

FOR FURTHER INFORMATION CONTACT: Elizabeth Eastwood (People's Republic of China) or Irina Itkin (Republic of Korea) at (202) 482-3874 or (202) 482-0656, respectively, Import Administration, International Trade Administration, U.S. Department of Commerce, 14th Street and Constitution Avenue, NW., Washington, DC 20230.

SUPPLEMENTARY INFORMATION:

Postponement of Due Date for Preliminary Determination

On October 1, 2002, the Department initiated antidumping duty investigations of imports of polyvinyl alcohol from the People's Republic of China (PRC) and the Republic of Korea (Korea). See 67 FR 61591 (Oct. 1, 2002). The notice of initiation stated that we would issue our preliminary determinations no later than 140 days after the date of initiation. See Id. Currently, the preliminary determinations in this investigation are due on February 12, 2003.

On January 21, 2003, the petitioners made a timely request pursuant to 19 CFR 351.205(e) for a 30-day postponement for the PRC and Korea, pursuant to section 733(c)(1)(A) of the Tariff Act of 1930, as amended (the Act). The petitioners stated that a postponement of these preliminary determinations is necessary in order to permit more complete and effective investigations and more accurate preliminary determinations.

Under section 733(c)(1)(A) of the Act, if the petitioner makes a timely request for an extension of the period within which the preliminary determination must be made under subsection (b)(1), then the Department may postpone making the preliminary determination under subsection (b)(1) until not later than the 190th day after the date on which the administering authority initiated the investigation. Therefore, in accordance with the petitioners' requests for postponement, the Department is postponing the preliminary determinations in these investigations until March 14, 2003, which is 170 days from the date on which the Department initiated these investigations.

This notice is issued and published pursuant to section 733(c)(2) of the Act and 19 CFR 351.205(f).

Dated: January 23, 2003.
Faryar Shirzad,
Assistant Secretary for Import Administration.

[FR Doc. 03-2102 Filed 1-29-03; 8:45 am]

BILLING CODE 3510-DS-S